INTERNATIONAL TRADE COMMISSION

[Investigation No. 332-565]

American Manufacturing Competitiveness Act; Effects of Temporary Duty Suspensions and Reductions on the U.S. Economy

AGENCY: United States International Trade Commission.

ACTION: Notice; change in dates.

SUMMARY: Due to the lapse of appropriation between December 22, 2018 and January 25, 2019, the Commission has changed certain dates announced in its notice of investigation and hearing published in the Federal Register on October 9, 2018 (83 FR 50687, October 9, 2018); see SUPPLEMENTARY INFORMATION section of this notice for details.

DATES: February 11, 2019.

FOR FURTHER INFORMATION CONTACT: Project Leader Kimberlie Freund (202-708-5402 or kimberlie.freund@usitc.gov) or Deputy Project Leader Samantha DeCarlo (202-205-3165 or Samantha.decarlo@usitc.gov) for information specific to these investigations. For information on the legal aspects of these investigations, contact William Gearhart of the Commission's Office of the General Counsel (202-205-3091 or william.gearhart@usitc.gov). The media should contact Margaret O'Laughlin, Office of External Relations (202-205-1819 or margaret.olaughlin@usitc.gov). Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: The Commission published notice of institution of the above referenced investigations in the Federal Register on October 9, 2018 (83 FR 50687, October 9, 2018). Due to the lapse in appropriation (December 22, 2018 to January 25, 2019), the Commission has changed certain dates announced in that notice regarding these investigations: (i) It has extended the deadline for filing requests to appear at the public hearing from February 19, 2019 to March 18, 2019; (ii) it has extended the deadline for filing prehearing briefs and statements from February 22, 2019 to March 21, 2019; (iii) it has rescheduled a public hearing from March 5, 2019 to April 8, 2019; (iv) it has extended the deadline for filing post-hearing briefs from March 12, 2019 to April 15, 2019; (v) it has extended the deadline for filing all other written submissions from March 22, 2019 to April 23, 2019; and (vi) it will transmit its report to the Committees by October 18, 2019 instead of by September 13, 2019. All other dates pertaining to this investigation remain the same as in the notice published in the Federal Register on October 9, 2018.

By order of the Commission.
Issued: February 12, 2019.
Lisa Barton,
Secretary to the Commission.

[FR Doc. 2019-02481 Filed 2-14-19; 8:45 am]

BILLING CODE 7020-02-P